DEPARTMENT OF TRANSPORTATION

Federal Aviation Administration

14 CFR Part 39

[Docket No. 2004-CE-03-AD]

RIN 2120-AA64

Airworthiness Directives; Cessna Aircraft Company Models 172R, 172S, 182S, 182T, T182T, 206H, and T206H Airplanes

AGENCY: Federal Aviation Administration (FAA), DOT.

ACTION: Notice of proposed rulemaking (NPRM).

SUMMARY: The FAA proposes to supersede Airworthiness Directive (AD) 2003-24-13, which applies to certain Cessna Aircraft Company (Cessna) Models 172R, 172S, 182S, 182T, T182T, 206H, and T206H airplanes that are equipped with a certain Honeywell KAP 140 autopilot computer system installed on the center instrument control panel near the throttle. AD 2003-24-13 currently requires you to install an update to the operating software of certain KAP 140 autopilot computer system, change the unit's part number, and change the software modification identification tab. This proposed AD is the result of the FAA inadvertently omitting four affected Honeywell KAP 140 autopilot computer system part numbers and an affected airplane serial number from the applicability section of AD 2003-24-13. This proposed AD retains the actions required in AD 2003-24-13, corrects the applicability section, and incorporates a revised installation bulletin issued by Honeywell.

DATES: We must receive any comments on this proposed AD by May 10, 2004.

ADDRESSES: Use one of the following to submit comments on this proposed AD:

• By mail: FAA, Central Region, Office of the Regional Counsel, Attention: Rules Docket No. 2004-CE-03-AD, 901 Locust, Room 506, Kansas City, Missouri 64106.

• By fax: (816) 329-3771.

• By e-mail: 9-ACE-7-Docket@faa.gov. Comments sent electronically must contain “Docket No. 2004-CE-03-AD” in the subject line. If you send comments electronically as attached electronic files, the files must be formatted in Microsoft Word 97 for Windows or ASCII.

You may get the service information identified in this proposed AD from Cessna Aircraft Company, Product Support, P.O. Box 7706, Wichita, Kansas 67277; telephone: (316) 517-5800; facsimile: (316) 942-9006 and Honeywell, Business, Regional, and General Aviation, 23500 W. 105th Street, Olathe, Kansas 66061.

You may view the AD docket at FAA, Central Region, Office of the Regional Counsel, Attention: Rules Docket No. 2004-CE-03-AD, 901 Locust, Room 506, Kansas City, Missouri 64106. Office hours are 8 a.m. to 4 p.m., Monday through Friday, except Federal holidays.

FOR FURTHER INFORMATION CONTACT: Dan Withers, Aerospace Engineer, Wichita Aircraft Certification Office (ACO), FAA, 1801 Airport Road, Mid-Continent Airport, Wichita, Kansas 67209; telephone: (316) 946-4196; facsimile: (316) 946-4407.

SUPPLEMENTARY INFORMATION:

Comments Invited

How Do I comment on This Proposed AD?

We invite you to submit any written relevant data, views, or arguments regarding this proposal. Send your comments to an address listed under ADDRESSES. Include “AD Docket No. 2004-CE-03-AD” in the subject line of your comments. If you want us to acknowledge receipt of your mailed comments, send us a self-addressed, stamped postcard with the docket number written on it. We will date-stamp your postcard and mail it back to you.

Are There Any Specific Portions of This Proposed AD I Should Pay Attention To?

We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Discussion

Has FAA Taken Any Action to This Point?

Reports of an unsafe condition on certain Cessna Models 172R, 172S, 182S, 182T, T182T, 206H, and T206H airplanes that are equipped with a Honeywell KAP 140 autopilot computer system caused us to issue AD 2003-24-13, Amendment 39-13382 (68 FR 67789, December 3, 2003).

The KAP 140 autopilot computer system is located on the lower portion of the center instrument control panel near the throttle on these Cessna airplanes. Because of this location on the instrument control panel of the affected Cessna airplanes, the Autopilot Engage (AP) button could unintentionally be depressed when the pilot pushes the throttle knob forward. The pilot could also unintentionally engage the autopilot system by inadvertently bumping the Heading (HDG) button, Altitude (ALT) mode-select button, or Autopilot Engage (AP) button on the KAP 140 computer. Unless intentionally engaged, the pilot does not know that the autopilot system is engaged.

The Honeywell KAP 140 autopilot computer system is also installed in the New Piper, Inc. Model PA-28-181 airplanes. This proposed AD would not affect these airplanes because of the location of the equipment. The equipment is installed on the center instrument panel near the throttle on the affected airplanes, but is installed in the upper half of the instrument control panel on the Piper airplanes. The unsafe condition only exists on certain Cessna airplanes.

Honeywell has updated the operating software for the KAP 140 autopilot computer system, which will now allow only the AP button on the instrument control panel to engage the autopilot system. This update also adds two voice messages if auto trim operation is detected, lengthens the amount of time that the autopilot button must be depressed in order for it to engage, and changes how the flight control display shows that the AP has been engaged.

AD 2003-24-13 currently requires the following on certain Cessna Aircraft Company Models 172R, 172S, 182S, 182T, T182T, 206H, and T206H airplanes that are equipped with a Honeywell KAP 140 autopilot computer system, part number (P/N) 065-00176-2602 , P/N 065-00176-5402, or P/N 065-00176-7702 installed on the center instrument control panel near the throttle:

—Installing an update to the autopilot computer system operating software;

—Changing the unit part number;

—Placing an M tag on the unit serial number tag; and

—Changing the unit's software modification tag.

What Has Happened Since AD 2003-24-13 to Initiate This Proposed Action?

We inadvertently omitted four affected Honeywell KAP 140 autopilot computer systems and an affected serial number for Model 182T airplanes from the applicability section. Honeywell revised Installation Bulletin No. 491 to the Rev. 3 level (dated April 2003). We will incorporate this bulletin into this proposed AD.

What Is the Potential Impact If FAA Took No Action?

If not corrected, inadvertent and undetected engagement of the autopilot system could cause the pilot to take inappropriate actions.

FAA's Determination and Requirements of this Proposed AD

What Has FAA Decided?

We have evaluated all pertinent information and identified an unsafe condition that is likely to exist or develop on other products of this same type design. Therefore, we are proposing AD action.

What Would This Proposed AD Require?

This proposed AD would retain the actions required in AD 2003-24-13, would add four additional affected Honeywell KAP 140 autopilot computer system part numbers and an affected airplane serial number to the applicability section, and would incorporate a revised Honeywell installation bulletin.

How Does the Revision to 14 CFR Part 39 Affect This Proposed AD?

On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How Many Airplanes Does This AD Impact?

We estimate that this AD affects 3,681 airplanes in the U.S. registry.

What is the Cost Impact of This AD on Owners/Operators of the Affected Airplanes?

We estimate the following costs to accomplish the modification:

Labor cost | Parts cost | Total cost per airplane | Total cost on U.S. operators
7 workhours × $65 per hour = $455 | Not applicable | $455 | $455 × 3,681 = $1,674,855

Not all Cessna Models 172R, 172S, 182S, 182T, T182T, 206H, and T206H airplanes on the U.S. registry have a KAP 140 autopilot computer system installed.

Honeywell will provide warranty credit for labor and parts to the extent noted under WARRANTY INFORMATION in Honeywell Service Bulletin No: KC 140-M1, dated August 2002, and Honeywell Installation Bulletin No. 491, Rev. 3, dated April 2003.

What Is the Difference Between the Cost Impact of This Proposed AD and the Cost Impact of AD 2003-24-13?

The difference is the addition of four KC 140 autopilot systems and one airplane serial number to the applicability section of this proposed AD. There is no difference in cost to perform the proposed modification.

Regulatory Findings

Would This Proposed AD Impact Various Entities?

We have determined that this proposed AD would not have federalism implications under Executive Order 13132. This proposed AD would not have a substantial direct effect on the States, on the relationship between the national Government and the States, or on the distribution of power and responsibilities among the various levels of government.

Would This Proposed AD Involve a Significant Rule or Regulatory Action?

For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket No. 2004-CE-03-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2003-24-13, Amendment 39-13382 (68 FR 67789, December 4, 2003), and by adding a new AD to read as follows:

Cessna Aircraft Company: Docket No. 2004-CE-03-AD

When Is the Last Date I Can Submit Comments on This Proposed AD?

(a) We must receive comments on this proposed airworthiness directive (AD) by May 10, 2004.

What Other ADs Are Affected by This Action?

(b) This AD supersedes AD 2003-24-13.

What Airplanes Are Affected by This AD?

(c) This AD affects the following airplane models and serial numbers that are:

(1) equipped with a KAP 140 autopilot computer system, part number (P/N) 065-00176-2501, P/N 065-00176-2602 , P/N 065-00176-5001, P/N 065-00176-5101, P/N 065-00176-5201, P/N 065-00176-5402, or P/N 065-00176-7702, all serial numbers; and

(2) certificated in any category.

Model | Serial numbers
172R | 17280001 through 17281073, 17281075 through 17281127, and 17281130
172S | 172S8001 through 172S9195, 172S9197, 172S9198, and 172S9200 through 172S9203
182S | 18280001 through 18280944
182T | 18280945 through 18281065, 18281067 through 18281145, 18281147 through 18281163, 18281165 through 18281167, and 18281172
T182T | T18208001 through T18208109, and T18208111 through T18208177
206H | 20608001 through 20608183, 20608185, 20608187, and 20608188
T206H | T20608001 through T20608039, T20608041 through T20608367, T20608369 through T20608379, T20608381, T20608382, and T20608385

What Is the Unsafe Condition Presented in This AD?

(d) This AD is the result of reports of inadvertent and undetected engagement of the autopilot system. The actions specified in this AD are intended to prevent unintentionally engaging the KAP 140 autopilot computer system, which could cause the pilot to take inappropriate actions.

What Must I Do To Address This Problem?

(e) To address this problem, you must do the following:

Actions | Compliance | Procedures
(1) For airplanes previously affected by AD 2003-24-13: install and update the KC 140 autopilot computer system operating software | Within the next 100 hours time-in-service (TIS) after January 20, 2004 (the effective date of AD 2003-24-13), unless already done | Follow Cessna Service Bulletin SB02-22-01, dated November 25, 2002, and Honeywell Service Bulletin No: KC 140-M1, dated August 2002, as specified in Honeywell Installation Bulletin No. 491, Rev. 3, dated April 2000.
(2) For airplanes previously affected by AD 2003-24-13: do the following: (i) Change the unit part number by attaching flavor sticker, part number (P/N) 057-02203-0003, on the unit's serial tag; (ii) Attach an M decal, P/N 057-02984-0501, in front of the unit serial number (this indicates that the unit's P/N has been changed); and (iii) Attach a software mod tag, P/N 057-05287-0301, in place of the old tag to indicate the software change to SW MOD 03/01 | Prior to further flight after installing the update to the KC 140 autopilot computer system operating software as specified in paragraph (e)(1) of this AD, unless already done | Follow Honeywell Service Bulletin No: KC 140-M1, dated August 2002, as specified in Cessna Service Bulletin SB02-22-01, dated November 25, 2002.
(3) For airplanes not affected by AD 2003-24-13: install and update the KC 140 autopilot computer system operating software | Within the next 100 hours time-in-service (TIS) after the effective date of this AD | Follow Honeywell Installation Bulletin No. 491, Rev. 3, dated April 2003; Cessna Service Bulletin SB02-22-01, dated November 25, 2002; Honeywell Service Bulletin No: KC 140-M1, dated August 2002; and Cessna Single Engine Service Bulletin SB98-22-01, dated May 18, 1988, as applicable.
(4)For all affected airplanes: install only KC 140 autopilot computer systems, part number (P/N) 065-00176-2501, P/N 065-00176-2602, P/N 065-00176-5001, P/N 065-00176-5101, P/N 065-00176-5201, P/N 065-00176-5402, or P/N 065-00176-7702, that have been modified as specified in paragraphs (e)(1), (e)(2), and (e)(3) of this AD | As of the effective date of this AD | Not applicable.

(f) You may request a revised flight manual supplement from Cessna or at the address specified in paragraph (h) of this AD.

May I Request an Alternative Method of Compliance?

(g) You may request a different method of compliance or a different compliance time for this AD by following the procedures in 14 CFR 39.19.

(1) Unless FAA authorizes otherwise, send your request to your principal inspector. The principal inspector may add comments and will send your request to the Manager, Wichita Aircraft Certification (ACO), FAA. For information on any already approved alternative methods of compliance, contact Dan Withers, Aerospace Engineer, Wichita Aircraft Certification Office (ACO), FAA, 1801 Airport Road, Mid-Continent Airport, Wichita, Kansas 67209; telephone: (316) 946-4196; facsimile: (316) 946-4407.

(2) Alternative methods of compliance approved in accordance with AD 2003-24-13, which is superseded by this AD, are approved as alternative methods of compliance with this AD.

May I Get Copies of the Documents Referenced in This AD?

(h) You may get copies of the documents referenced in this AD from Cessna Aircraft Company, Product Support, P.O. Box 7706, Wichita, Kansas 67277; telephone: (316) 517-5800; facsimile: (316) 942-9006 and Honeywell, Business, Regional, and General Aviation, 23500 W. 105th Street, Olathe, Kansas 66061. You may view these documents at FAA, Central Region, Office of the Regional Counsel, 901 Locust, Room 506, Kansas City, Missouri 64106.

Issued in Kansas City, Missouri, on March 4, 2004.
Sandra J. Campbell,
Acting Manager, Small Airplane Directorate, Aircraft Certification Service.

[FR Doc. 04-5334 Filed 3-9-04; 8:45 am]

BILLING CODE 4910-13-P